DEPARTMENT OF COMMERCE

International Trade Administration

[A-507-502]

Certain In-Shell Raw Pistachios From Iran: Extension of Time Limit for Preliminary Results of Antidumping New Shipper Review

AGENCY: Import Administration, International Trade Administration, Department of Commerce.

ACTION: Notice of extension of time limit for preliminary results of antidumping new shipper review.

EFFECTIVE DATE: April 2, 2002.

FOR FURTHER INFORMATION CONTACT: Dena Aliadinov at (202) 482-3362, or Donna Kinsella at (202) 482-0194, Import Administration, International Trade Administration, U.S. Department of Commerce, 14th Street and Constitution Ave, NW., Washington, DC 20230.

SUPPLEMENTARY INFORMATION:

Statutory Time Limits

Section 751(a)(2)(B)(iv) of the Tariff Act of 1930, as amended (the Act), requires the Department of Commerce (“the Department”) to make a preliminary determination within 180 days after the date on which the new shipper review is initiated, and a final determination within 90 days after the date the preliminary determination is issued. However, if the case is extraordinarily complicated, section 751(a)(2)(B)(iv) of the Act allows the Department to extend the time limit for the preliminary determination to a maximum of 300 days and for the final determination to 150 days after the date the preliminary determination is issued.

Background

On October 2, 2001 the Department initiated a new shipper review of the antidumping duty order on in-shell pistachios from Iran. See Certain In-Shell Pistachios From Iran: Initiation of New Shipper Review, 66 FR 51638 (October 10, 2001). This order covers raw in-shell pistachios and specifically excludes roasted in-shell pistachios. See Certain In-Shell Pistachios From Iran; Clarification of Scope in Antidumping Duty Investigation, 51 FR 23254 (June 26, 1986). The period of review (POR) is July 1, 2000 through June 30, 2001. The preliminary results are currently due on April 1, 2002.

Extension of Time Limit for Preliminary Results of Review

The instant review involves several complex issues that necessitate a greater amount of time in order to preliminarily complete this review, including Iran's dual exchange rate system, the classification of U.S. sales (EP vs. CEP), and the appropriate basis for normal value. Therefore, the Department is extending the time limit for completion of the preliminary results to 300 days, which is July 29, 2002, pursuant to 751(a)(2)(B)(iv) of the Act. The final results will continue to be 90 days after the date the preliminary results are issued.

This extension of the time limit is in accordance with section 751(a)(2)(B)(iv) of the Act and 19 CFR 351.214(i)(2).

Dated: March 26, 2002.
Joseph A. Spetrini,
Deputy Assistant Secretary for Import Administration, Group III.

[FR Doc. 02-7851 Filed 4-1-02; 8:45 am]

BILLING CODE 3510-DS-P